DEPARTMENT OF HEALTH AND HUMAN SERVICES

Administration for Children and Families

[Program Announcement No. ACYF-PA-HS-2001-05A]

Fiscal Year 2001 Discretionary Announcement of the Availability of Funds and Request for Applications for Nationwide Expansion Competition of Early Head Start; Correction

AGENCY: Administration for Children, Youth and Families, ACF, DHHS.

ACTION: Correction.

SUMMARY: This document contains a correction to the Notice that was published in the Federal Register on March 7, 2001. All the Counties, cities, and towns and communities added by this Correction Notice are geographical areas currently being served by existing Early Head Start grantees and are not open for competition by new Early Head Start programs. However, these areas are available for expansion by existing grantees. The geographical areas deleted by this Correction Notice are open for competition by new Early Head Start programs.

On page 13746, in the SUPPLEMENTARY INFORMATION section, in the “Eligible Applicants” subsection, delete the entire paragraph and replace with the following paragraph: “Applicants eligible to apply to become an Early Head Start program are local public and private non-profit and for-profit entities. Early Head Start and Head Start grantees are eligible to apply. Only Tribal governing bodies may apply to establish or expand programs on their respective Federal Indian Reservations. Applicants are reminded that eligibility to apply for a grant under this Notice is limited to local agencies, as defined in Section 641(a) and (b) of the Head Start Act.

The following changes need to be made to the “FY 2001 Expansion Service Areas Matrix”:

On page 13748, in the State of California, in the County Column, delete the County of “Lassen”, and beside it in the Service Area Column delete “Entire County”. In the County of “Siskiyou”, in the Service Area Column delete “Entire County” and replace it with “Weed”. On page 13749, in the State of California, in the County of “Trinity”, in the Service Area Column delete “Entire County” and replace it with “Weaverville and Hayfork”.

On page 13751, in the State of Idaho, before the County of “Bonner”, add the County of “Ada”, and beside it in the Service Area Column add “Entire County”.

On page 13752, in the State of Illinois, in the County of “Lake”, in the Service Area Column delete “Entire County” and replace it with the “Town of Waukegan”.

On page 13752, in the State of Indiana, delete the County of “Ada”, and beside it in the Service Area Column delete “Entire County”.

On page 13755, in the State of Maryland, in the County of “Montgomery”, in the Service Area Column delete “(2) Rockville South of Route 28, Silver Spring and Takoma Park.” and replace it with “(2) Rockville, Silver Spring, Wheaton and Takoma Park”. In Maryland, in the County of “Prince Georges”, in the Service Area Column delete “Hyattsville, Riverdale and Langley Park” and replace it with “Hyattsville, Riverdale, Langley Park, Greenbelt, Adelphi, College Park, Glendarden, Capital Heights, and Landover”.

On page 13756, in the State of Michigan, in the County of “Jackson”, in the Service Area Column delete “North of I-94 to Seymore Rd., South of I-94 to US-12, East of US-127 to Clear Lake Rd., West of US-127 to M-99” and delete “The cities and towns of Brooklyn, Cement City, Clarke Lake, Concord, Grass Lake, Horton, Jackson, Michigan Center, Napolean, Parma, Spring Harbor, and Springport” and replace with “Entire County”. In the State of Michigan, in the County of “Ottawa”, in the Service Area Column delete “Town of Ferrysburg, Grand Haven Township, Spring Lake Township, Crockery Township, and Robinson Township”, and replace in the Service Area Column with “Town of Ferrysburg, Grand Haven Township, Spring Lake Township, Crockery Township, Robinson Township, Holland, West Olive and Allendale”. On page 13757, in the State of Michigan, after “Ingham” County, add the County of “Hillsdale”, and add in the Service Area Column “North of US 12 to the Jackson County line; City of Hillsdale”.

On page 13759, in the State of New Jersey, in the County of “Morris”, in the Service Area Column delete “Entire County” and replace with “Netcong, Dover and Victory Gardens”.

On page 13760, in the State of New York, in the County of “Rockland”, in the Service Area Column delete “Spring Valley”, and replace with “Village of New Square”. In the State of New York, in the County Column delete “Suffork/Nassau” and replace with “Suffolk”.

On page 13760, after the State of North Carolina and all its Counties and service areas, add the State of “North Dakota”. In North Dakota add the following Counties: “Barnes”, “Stutsman”, “Dickey”, “Eddy”, “Foster”, “Griggs”, “LaMoure”, “Logan,” and “McIntosh” and beside each County add “Entire County”. In North Dakota, add the County of “Benson”, and beside it in the Service Area Column add: “(1) Spirit Lake Reservation; and (2) Entire County with the exception of the Spirit Lake Reservation boundary”. In North Dakota, add the County of “Ramsey”, and beside it in the Service Area Column add “Entire County with the exception of the Spirit Lake Reservation boundary”. In North Dakota, add the County of “Wells”, and beside it in the Service Area Column add “Entire County”. In North Dakota, add the County of “Ward”, and beside it in the Service Area Column add “Minot Public School District #1 Boundary, which includes the Minot Air Force Base”. In North Dakota, add the County of “Sioux”, and beside it in the Service Area Column add “Boundaries of Standing Rock Reservation”. In North Dakota, add the County of “Grant”, and beside it in the Service Area Column add “Boundaries of Standing Rock Reservation”. In North Dakota, add the counties of “Nelson”, “Steele”, and “Traille”, and beside each County add “Entire County”. In North Dakota, add the County of “Grand Forks”, and beside it in the Service Area Column add “Emerado, Larimore, Niagra, Northwood, Reynolds, Thompson and rural portion of the County”.

On page 13761, in the State of Pennsylvania, in “Allegheny” County, in the Service Area Column delete “Towns of Terrace Village, Clairton, West Mifflin, Elizabeth, McKees Rocks, and Stowe Township in the City of Pittsburgh” and replace it in the Service Area Column with “Hill District, Uptown, Upper Hill, Middle Hill, Lower Hill, South Oakland, North Oakland, Clairton, City of Clairton, West Mifflin, Wilson, Jefferson, Glassport, Elizabeth, Dravosburg, Sto-Rox, McKees Rocks Borough, Kennedy Township, Esplen, Neville Island and Stowe Township”.

On page 13763, in the State of Texas, in the County Column, delete “Bextar” and replace with “Bexar”. In the State of Texas, in the County of “Cameron”, delete the following Service Area Column description: “City of Harlingen: an area bounded by Harrison Street on the South, by Expressway 77 on the West, by F.M. 507 on the North and by F.M. 509 on the East” and replace it in the Service Area Column with “City of Harlingen: an area bounded by Harrison Street on the South; by Expressway 77 on the West; by F.M. 507 on the North; and by F.M. 509 on the East; and the cities of Brownsville, San Benito and Port Isabel”. On page 13764, in the State of Texas, in the County of “Willacy”, in the Service Area Column delete “Brownsville, San Benito, Port Isabel, and Raymoudville” and replace it with “Raymoudville”. On page 13765, in the State of Texas, at the end of all the Counties, add the County of “Tarrant” and beside it in the Service Area Column add “Entire County”.

On page 13765, in the State of Virginia, delete the County of “Arlington” and replace it with the County of “Alexandria”. Beside it, the Service Area Column remains the same (“City of Alexandria: Rt. 1 Corridor”. In the State of Virginia, in “Prince William” County, in the Service Area Column delete “Manassas and Manassas Park” and replace it with “Entire County”.

On page 13766, after the State of Washington and all its Counties and service areas, add the State of “West Virginia”. In West Virginia, add the following Counties; “Booke”, “Marshall”, and “Wetzel”, and beside each County add “Entire County”. In West Virginia, add the County of “Cabel”, and beside it in the Service Area Column add “Cities of Huntington and Barboursville”. In West Virginia, add the County of “Lincoln”, and beside it in the Service Area Column add “Towns of Harts and Ranger”. In West Virginia, add the County of “Wayne”, and beside it in the Service Area Column add “Towns of Crum and Fort Gay”. In West Virginia, add the County of “Marion”, and beside it in the Service Area Column add “City of Fairmont”. In West Virginia, add the following Counties: “Randolph”, “Tucker”, “Preston”, “Mongalia”, and “Wyoming” and beside each of these Counties in the Service Area Column add “Entire County”.

On page 13766, after the State of West Virginia and all its Counties and service areas, add the State of “Wisconsin”. In Wisconsin, add the following Counties: “Adams”, “Columbia”, “Dodge”, “Juneau”, “Sauk”, “Dane”. “Barron”, “Chippewa”, “Dunn”, “Grant”, and “Richland”, and beside each County add “Entire County”. In Wisconsin, add the County of “Kenosha”, and beside it in the Service Area Column add “City of Kenosha; Neighborhoods of: Wilson Heights and Bain”. In Wisconsin, add the following Counties: “Brown”, “Manitowac”, “Forest”, “Oneida”, “Vilas”, “Pierce”, “Polk”, “Pepin”, and “St. Croix”, and beside each County add “Entire County”. In Wisconsin, add the County of “Milwaukee”, and beside it in the Service Area Column add “City of Milwaukee—North: Capital Drive; East: Hwy 43; South: Wisconsin Ave.; and West: Sherman. In Wisconsin, add the County of “Waukesha”, and beside it in the Service Area Column add “Entire County”. In Wisconsin, add the County of “Kesheua′, and beside it in the Service Area Column add “Menominee Reservation”.

FOR FURTHER INFORMATION CONTACT: The ACYF Operations Center at 1-800-351-2293 or send an email to ehs@lcgnet.com. You can also contact Sherri Ash, Early Head Start, Head Start Bureau at (202) 205-8562.

Dated: April 2, 2001.
James A. Harrell,
Acting Commissioner, Administration on Children, Youth and Families.

[FR Doc. 01-8573 Filed 4-6-01; 8:45 am]

BILLING CODE 4184-01-M